FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 1, 2006.

A. Federal Reserve Bank of St. Louis (Glenda Wilson, Community Affairs Officer) 411 Locust Street, St. Louis, Missouri 63166-2034:

1. Terry L. Bunnell, Glasgow, Kentucky; Gil R. Cowles, Rockfield, Kentucky; Vernon D. Landers, Jr., Glasgow, Kentucky; Brandon W. Morgan, Paducah, Kentucky; Billy B. Morgan, Benton, Kentucky; Roy D. Phillips, Marion, Kentucky; Patrick B. Ragan, Dickson, Kentucky; and Ted H. Williams, Dickson, Kentucky, as a group acting in concert, to acquire voting shares of Peoples-Marion Bancorp, Inc., Marion, Kentucky, and thereby indirectly acquire voting shares of The Peoples Bank, Marion, Kentucky.

B. Federal Reserve Bank of Kansas City (Donna J. Ward, Assistant Vice President) 925 Grand Avenue, Kansas City, Missouri 64198-0001:

1. Byron Dirk Bagenstos, individually and as Trustee of the Byron Dirk Bagenstos 2002 Trust; to acquire voting shares of Alfalfa County Bancshares, Inc., and thereby indirectly acquire voting shares of ACB Bank, all of Cherokee, Oklahoma.

Board of Governors of the Federal Reserve System, November 13, 2006.
Robert deV. Frierson,
Deputy Secretary of the Board.

[FR Doc. E6-19397 Filed 11-15-06; 8:45 am]

BILLING CODE 6210-01-S